DEPARTMENT OF COMMERCE

National Oceanic and Atmospheric Administration

RIN 0648-XF923

Pacific Fishery Management Council; Public Meeting

AGENCY: National Marine Fisheries Service (NMFS), National Oceanic and Atmospheric Administration (NOAA), Commerce.

ACTION: Notice of public meeting.

SUMMARY: The Pacific Fishery Management Council's (Pacific Council) Highly Migratory Species Management Team (HMSMT) will hold a meeting, which is open to the public.

DATES: The meeting will be held Monday, January 22, 2018 to Wednesday, January 24, 2018, and will start at 8:30 a.m. and continue until business is concluded on each day.

ADDRESSES: The meeting will be held at the Glenn M. Anderson Federal Building, 501 W. Ocean Blvd., Long Beach, CA 90802, on the Third Floor in Room 3400. Visitors need to present photo ID and pass through electronic security equipment to enter the building. There is no visitor parking available in the building for the general public. Metered street parking is nearby. Commercial parking lots are within walking distance to the building.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The purpose of the HMSMT meeting is to finalize a preliminary analysis of the range of alternatives for authorizing a fishery using deep-set buoy gear adopted by the Pacific Council in September 2017. The HMSMT will provide the draft analysis at the Pacific Council's March 2018 meeting. At that meeting the Council is scheduled to further refine the alternatives as needed and adopt a preliminary preferred alternative, if possible. The HMSMT may also discuss updates to the HMS Stock Assessment and Fishery Evaluation document and HMS-related matters scheduled on future Council agendas.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411 at least 10 business days prior to the meeting date.

Dated: December 20, 2017.
Tracey L. Thompson,
Acting Deputy Director, Office of Sustainable Fisheries, National Marine Fisheries Service.

[FR Doc. 2017-27822 Filed 12-26-17; 8:45 am]

BILLING CODE 3510-22-P